DEPARTMENT OF COMMERCE

National Oceanic and Atmospheric Administration

RIN 0648-XG939

North Pacific Fishery Management Council; Public Meeting

AGENCY: National Marine Fisheries Service (NMFS), National Oceanic and Atmospheric Administration (NOAA), Commerce.

ACTION: Notice of public meeting.

SUMMARY: The North Pacific Fishery Management Council (Council) Crab Plan Team will meet in April, in Anchorage, AK.

DATES: The meeting will be held on Monday, April 29, 2019 through Friday, May 3, 2019, from 9 a.m. to 5 p.m. Alaska Standard Time.

ADDRESSES: The meeting will be held in the Susitna Room, at the Coast International Inn, 3450 Aviation Ave., Anchorage, AK 99502. Teleconference number is (907) 271-2896.

Council address: North Pacific Fishery Management Council, 605 W 4th Ave., Suite 306, Anchorage, AK 99501-2252; telephone: (907) 271-2809.

FOR FURTHER INFORMATION CONTACT: Jim Armstrong, Council staff; telephone: (907) 271-2809.

SUPPLEMENTARY INFORMATION:

Agenda

Monday, April 29, 2019 Through Friday, May 3, 2019

The agenda will include: (a) Final 2019 stock assessments for Aleutian Islands Golden King Crab and Pribilof Island Blue King Crab; (b) discussions and stock assessment modeling scenarios for Snow Crab, Tanner Crab, Bristol Bay Red King Crab, and Pribilof Island Red King Crab; (c) stock assessment and rebuilding plan for St. Matthew Blue King Crab; (d) planning discussions on the use of GMACS and VAST; (e) review of the Economic SAFE; and (f) other business.

The Agenda is subject to change, and the latest version will be posted at meetings.npfmc.org prior to the meeting, along with meeting materials.

Public Comment

Public comment letters will be accepted and should be submitted either electronically via the eCommenting portal at: meetings.npfmc.org or through the mail: North Pacific Fishery Management Council, 605 W 4th Ave., Suite 306, Anchorage, AK 99501-2252. In-person oral public testimony will be accepted at the discretion of the chair.

Special Accommodations

These meetings are physically accessible to people with disabilities. Requests for sign language interpretation or other auxiliary aids should be directed to Shannon Gleason at (907) 271-2809 at least 7 working days prior to the meeting date.

Dated: April 4, 2019.
Tracey L. Thompson,
Acting Deputy Director, Office of Sustainable Fisheries, National Marine Fisheries Service.

[FR Doc. 2019-07015 Filed 4-8-19; 8:45 am]

BILLING CODE 3510-22-P